DEPARTMENT OF ENERGY

Federal Energy Regulatory Commission

[Project No. 2716-051]

Virginia Electric and Power Company d/b/a Dominion Energy Virginia, Allegheny Generating Company, and Bath County Energy, LLC; Notice of Application Tendered for Filing With the Commission and Establishing Procedural Schedule for Licensing and Deadline for Submission of Final Amendments

Take notice that the following hydroelectric application has been filed with the Commission and is available for public inspection.

a. Type of Application: New Major License.

b. Project No.: 2716-051.

c. Date Filed: December 30, 2024.

d. Applicant: Virginia Electric and Power Company d/b/a Dominion Energy Virginia, Allegheny Generating Company, and Bath County Energy, LLC (Dominion).

e. Name of Project: Bath County Pumped Storage Project (Bath County Project).

f. Location: On Back Creek and Little Back Creek in Bath, Highland, Augusta, and Rockbridge counties, Virginia. The current project boundary encompasses 3,451 acres of land, including 1,122 acres of Federal land in the George Washington and Jefferson National Forests administered by the U.S. Forest Service.

g. Filed Pursuant to: Federal Power Act, 16 U.S.C. 791(a)-825(r).

h. Applicant Contact: Mr. Corwin D. Chamberlain, Relicensing Project Manager, Dominion Energy, 600 Canal Place, Richmond, VA 23219-3852; (804) 273-2948; corwin.d.chamberlain@dominionenergy.com.

i. FERC Contact: Andy Bernick at (202) 502-8660 or email at andrew.bernick@ferc.gov.

j. The application is not ready for environmental analysis at this time.

k. The Bath County Project consists of the following existing facilities: (1) an upper reservoir with a surface area of 278 acres and a gross storage capacity of 37,910 acre-feet (with an usable storage capacity of 23,300 acre-feet—power pool) at a normal maximum surface elevation of 3,321 feet National Geodetic Vertical Datum of 1929 (NGVD29), created by a 2,250-foot-long, 460-foot-high, earth and rock-fill dam across Little Back Creek with a crest elevation of 3,331 feet NGVD29; (2) water conduits composed of: (a) three intake structures in the upper reservoir; (b) two 10.75-foot by 28.6-foot wheel gates at each of the three intakes; (c) three concrete-lined power tunnels, 28.5 feet in diameter with an approximately 3,300 to 3,400-foot-long upper horizontal section, a 980-foot-long vertical section, and an approximately 3,267 to 3,686-foot-long lower horizontal section, connecting each upper intake to two steel-lined 1,185 to 1,510-foot-long, 18.0 to 19.5-foot-diameter underground penstocks; and (d) a single-shaft surge tank, approximately 44 feet in diameter, for each of the power tunnels; (3) a 509-foot-long, 145-foot-wide, and 203-foot-high reinforced concrete, primarily underground powerhouse with six 65-foot-wide bays for generation/pumping equipment and one erection bay, located on the west side of the lower reservoir, housing six Francis reversible pump-turbines each rated at 414 megawatts (MW) with a maximum hydraulic capacity of 4,600 cubic feet per second (cfs) in pumping mode and 5,000 cfs in generation mode, and a total installed capacity of 2,484 MW; (4) a lower reservoir with a surface area of 555 acres and a gross storage capacity of 27,300 acre-feet (with an usable storage capacity of 25,620 acre-feet composed of a 22,570 acre-foot power pool and 3,050 acre-foot conservation pool) at a normal maximum surface elevation 2,118 feet NGVD29, created by a 2,100-foot-long, 135-foot-high, earth and rock-fill dam across Back Creek with a crest elevation of 2,136 feet NGVD29; (5) a project switchyard on top of the powerhouse containing transformers to step-up the generator voltage to 500 kilovolts (kV), the transmission line voltage; (6) two 500-kV transmission lines, approximately 51 miles (Valley Line) and 35 miles long (Lexington Line), which interconnect at substations located in Augusta County, near Bridgewater, Virginia, and Rockbridge County, near Lexington, Virginia, respectively; and (7) appurtenant facilities.

The average annual energy generation (2014 to 2023) is 3,708,814 megawatt-hours (MWh), and the average annual pumping consumption (2000 to 2020) is 4,599,899 MWh.

Dominion manages three sediment ponds with a combined storage of about 103.5 acre-feet, located downstream of the upper reservoir on Little Back Creek outside of the current project boundary. The ponds were originally constructed to trap and limit sediment input to Little Back Creek following project construction in 1985, and Dominion continues to manage the ponds: (1) as a safety feature to protect Little Back Creek from excessive sediment deposition and flooding in the event of an emergency drawdown of the upper reservoir; (2) to regulate flows from upstream sources including the upper reservoir; (3) to supplement downstream flow; and (4) to provide recreational fishing opportunities. Dominion proposes to include the sediment ponds within the project boundary to protect Little Back Creek by trapping sediment in the unlikely event of an emergency drawdown of the upper reservoir as well as provide recreational access to the ponds over the new license term.

The project also includes an existing project recreation area, located downstream of the lower reservoir dam near Back Creek, that consists of: (1) a 49-acre upper recreation pond with a one-lane concrete boat ramp for electric motorized and non-motorized boats, a fishing pier/dock, a walking trail, two tent-only campsites, and a parking area for 22 vehicles; (2) a 26-acre lower recreation pond with a swimming beach, a recreational field for soccer or baseball, a volleyball court, a walking trail, three picnic areas with a total of 18 picnic tables, a pavilion with restrooms, a bathhouse with restrooms and showers, and a parking area for 65 vehicles; and (3) a campground with 30 recreational vehicle campsites (each with a gravel pad, fire ring, and picnic table), trash cans, a comfort station with restrooms and showers, and a check-in station.

Dominion proposes to continue to operate the Bath County Project as required by the current license. Downstream flow releases are maintained in compliance with the Virginia Water Protection Permit. As required by the permit, under normal operating conditions: (1) the daily average release from the lower reservoir shall be no less than the difference between 15 cfs and the daily average release from the upper reservoir; (2) at no time shall the instantaneous release from the lower reservoir be less than 10 cfs; and (3) the instantaneous release from the upper reservoir shall be no less than 2 cfs.

Dominion proposes to upgrade the turbine-generator units (i.e., replacement of turbine runners), including associated appurtenant facilities. No other structural or operational changes to the Bath County Project are proposed by Dominion at this time.

l. In addition to publishing this notice in the Federal Register, the Commission provides all interested persons an opportunity to view and/or print the contents of this notice, as well as other documents in the proceeding (e.g., license application) via the internet through the Commission's Home Page (http://www.ferc.gov), using the “eLibrary” link. Enter the docket number, excluding the last three digits in the docket number field to access the document (P-2716). For assistance, contact FERC at FERCOnlineSupport@ferc.gov, (866) 208-3676 (toll free), or (202) 502-8659 (TTY). You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

n. Procedural Schedule: The application will be processed according to the following preliminary schedule. Revisions to the schedule will be made as appropriate.

Deficiency Letter (if necessary)—January 2025

Additional Information Request (if necessary)—February 2025

Notice of Acceptance—June 2025

Issue Notice of Ready for Environmental Analysis—June 2025

o. Final amendments to the application must be filed with the Commission no later than 30 days from the issuance date of the notice of ready for environmental analysis.

Dated: January 8, 2025.
Debbie-Anne A. Reese,
Secretary.

[FR Doc. 2025-00836 Filed 1-14-25; 8:45 am]

BILLING CODE 6717-01-P